DEPARTMENT OF HEALTH AND HUMAN SERVICES

Determination Concerning a Petition To Add a Class of Employees to the Special Exposure Cohort

AGENCY: National Institute for Occupational Safety and Health (NIOSH), Department of Health and Human Services (HHS).

ACTION: Notice.

SUMMARY: HHS gives notice of a determination concerning a petition to add a class of employees from the Chapman Valve Manufacturing Company (i.e., Building 23 and Dean Street facility) in Indian Orchard, Massachusetts, to the Special Exposure Cohort (SEC) under the Energy Employees Occupational Illness Compensation Program Act of 2000 (EEOICPA), 42 U.S.C. 7384q. On June 3, 2011, the Secretary of HHS determined that the following class of employees does not meet the statutory criteria for addition to the SEC as authorized under EEOICPA:

All Atomic Weapons Employees who were monitored, or should have been monitored for radiological exposures while performing Atomic Energy Commission work at the Chapman Valve Manufacturing Company (i.e., Building 23 and Dean Street facility) in Indian Orchard, Massachusetts, from January 1, 1948 through December 31, 1949, and from January 1, 1991 through December 31, 1993.

FOR FURTHER INFORMATION CONTACT: Stuart L. Hinnefeld, Director, Division of Compensation Analysis and Support, National Institute for Occupational Safety and Health (NIOSH), 4676 Columbia Parkway, MS C-46, Cincinnati, OH 45226, Telephone 1-877-222-7570. Information requests can also be submitted by e-mail to DCAS@CDC.GOV.

John Howard,
Director, National Institute for Occupational Safety and Health.

[FR Doc. 2011-15826 Filed 6-23-11; 8:45 am]

BILLING CODE 4163-19-P